DEPARTMENT OF THE INTERIOR

Office of the Secretary

Bureau of Indian Affairs

Office of Special Trustee for American Indians

Office of Indian Trust Transition

Tribal Consultation on Indian Trust Asset Management

AGENCIES: Office of the Secretary, Bureau of Indian Affairs, Office of the Special Trustee for American Indians, Office of Indian Trust Transition, Interior.

ACTION: Notice of tribal consultation meetings.

SUMMARY: The Office of the Secretary, along with the Bureau of Indian Affairs, the Office of Special Trustee for American Indians, and Office of Indian Trust Transition, will conduct meetings on Indian trust asset management. The purpose of the meetings is to discuss a proposed reorganization of the Department's trust responsibility functions to improve the management of Indian trust assets. Any tribe, band, nation or individual is encouraged to attend the meetings and to submit written comments.

DATES: The dates and city locations of the consultation meetings are as follows:

• December 13, 2001—Albuquerque, New Mexico

• December 20, 2001—Minneapolis, Minnesota

• January 3, 2002—Oklahoma City, Oklahoma

• January 10, 2002—Rapid City, South Dakota

• January 17, 2002—San Diego, California

• January 23, 2002—Anchorage, Alaska

• February 1, 2002—Washington, DC (Arlington, Virginia)

ADDRESSES: The addresses for the consultation meetings, which will all begin promptly at 9:00 a.m., are as follows:

• Albuquerque, New Mexico—The Hyatt Regency, 330 Tijeras Street NW

• Minneapolis, Minnesota—The Double Tree Hotel, 7901 24th Ave. South

• Oklahoma City, Oklahoma—Westin Hotel, 1 North Broadway

• Rapid City, South Dakota—Holiday Inn Rushmore Plaza, 505 N. 5th Street

• San Diego, California—Hanalei Red Lion Hotel, 2270 Hotel Circle North

• Anchorage, Alaska—Hilton Anchorage, 500 West 3rd Street

• Washington, DC—Hyatt Regency Crystal City, 2799 Jefferson Davis Highway, Arlington, Virginia

FOR FURTHER INFORMATION CONTACT: Wayne R. Smith, Deputy Assistant Secretary—Indian Affairs, 1849 C Street NW., MS 4140 MIB, Washington, DC 20240 (202/208-7163).

SUPPLEMENTARY INFORMATION: The purpose of the meetings is to involve affected and interested parties in the process of organizing the Department's trust asset management responsibility functions. The Department has determined that there is a need for dramatic change in the management of Indian trust assets. This need has been made apparent in several ways. An independent consultant has analyzed important components of the Department's trust reform activities and made several recommendations, including the recommendation that the Department consolidate trust functions under a single entity. Concerns have also been raised in the Cobell v. Norton case, which is currently pending in the Federal District Court for the District of Columbia. Internal review has also supported reorganization. Additionally, a recent report commissioned by the Department of the Interior has supported reorganization. This report, developed by the EDS Corporation, is being made available online at www.doi.gov for public review. A new office in the Department, the Office of Indian Trust Transition, has been created to plan and support reorganization. While preliminary actions have been taken by the Department, the plan for reorganization is still in the early stages of development. Prior notice of the first two consultation meetings scheduled in Albuquerque, New Mexico and Minneapolis, Minnesota, were published in the Federal Register on December 5, 2001 (66 FR 63306).

Written comments may be submitted at any of the above listed meeting locations or may be mailed to the address indicated under the heading FOR FURTHER INFORMATION CONTACT. Interested persons may examine written comments during regular business hours (7:45 a.m. to 4:15 p.m. EST) in the Office of the Assistant Secretary—Indian Affairs, Washington, DC, Monday through Friday, except for Federal holidays. Commenters who wish to remain anonymous must clearly state this preference at the beginning of their written comments. The Department will honor requests for anonymity to the extent allowable by law.

These meetings support administrative policy on tribal consultation by encouraging maximum direct participation of representatives of tribal governments, tribal organizations and other interested persons in important Departmental processes.

Dated: December 7, 2001.
J. Steven Griles,
Deputy Secretary.

[FR Doc. 01-30734 Filed 12-10-01; 8:45 am]

BILLING CODE 4310-02-M